DEPARTMENT OF THE INTERIOR

National Park Service

60-day Notice of Intention To Request Clearance of Collection of Information; Opportunity for Public Comment

AGENCY: Department of the Interior, National Park Service.

ACTION: Notice and request for comments.

SUMMARY: Under the paperwork Reduction Act of 1995 and 5 CFR part 1320, Reporting and Recordkeeping Requirements, the National Park Service (NPS) invites public comments on an extension of a currently approved information collection (OMB #1024-0037).

DATES: Public comments on the proposed Information Collection Request (ICR) will be accepted on or before October 1, 2007.

ADDRESSES: Send comments to: Francis P. McManamon, Manager, Archeology Program, National Park Service, 1849 C Street, NW. (2275), Washington, DC 20240. Phone: 202/354-2123; Fax: 202/371-5102; or by e-mail at fp_mcmanamon@nps.gov. Also, you may send comments to Leonard Stowe, NPS Information Collection Clearance Officer, 1849 Street, NW. (2605), Washington, DC 20240, or by e-mail at leonard_stowe@nps.gov. All responses to this notice will be summarized and included in the request for the Office of Management and Budget (OMB) approval. All comments will become a matter of public record.

FOR FURTHER INFORMATION CONTACT: Karen Mudar, Archeology Program, National Park Service, 1849 C Street, NW. (2275), Washington, DC 20240. Phone: 202/354-2103; Fax: 202/371-5102; or by e-mail at karen_mudar@nps.gov. You are entitled to a copy of the entire ICR package free of charge.

SUPPLEMENTARY INFORMATION: Title: Archeology Permits and Reports—43 CFR parts 3 and 7.

Form Number(s): DI-1926 (permit application), DI-1991 (permit form).

OMB Number: 1024-0037.

Expiration Date: January 31, 2008.

Type of Request: Extension of a currently approved information collection.

Description of Need: Section 4 of the Archeological Resources Protection Act (ARPA) of 1979 (16 U.S.C. 470cc), and Section 3 of the Antiquities Act (AA) of 1906 (16 U.S.C. 432), authorize any individual or institution to apply to Federal land managing agencies to scientifically excavate or remove archeological resources from public or Indian lands. 43 CFR part 7 for ARPA, and 43 CFR part 3 for the AA, ensure that the resources are scientifically excavated or removed and deposited, along with associated records, in a suitable repository for preservation. Section 13 of ARPA (16 U.S.C. 47011) requires that the Secretary of the Interior report annually to the Congress on archeological activities conducted pursuant to the Act. The information collected is reported periodically to Congress and is used for land management purposes. The obligation to respond is required to obtain or retain benefits.

Comments Are Invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of Collection: On occasion.

Description of Respondents: Respondents are those individuals or organizations wishing to excavate or remove archeological resources from public or Indian lands.

Estimated Average Number of Respondents: 700 per year.

Estimated Average Number of Responses: 2,100 per year.

Frequency of Response: 3 per respondent.

Estimated Average Time Burden per Respondent: 2.5 hours per respondent.

Estimated Total Annual Reporting Burden: 1,750 hours per year.

Dated: July 12, 2007.
Leonard E. Stowe,
NPS, Information Collection Clearance Officer.

[FR Doc. 07-3741 Filed 7-31-07; 8:45 am]

BILLING CODE 4312-53-M